DEPARTMENT OF HEALTH AND HUMAN SERVICES

Centers for Medicare & Medicaid Services

[CMS-7040-N2]

Health Insurance Marketplace℠, Medicare, Medicaid, and the Children's Health Insurance Program; Cancellation of the March 23, 2016 Advisory Panel on Outreach and Education Meeting

AGENCY: Centers for Medicare & Medicaid Services (CMS), HHS.

ACTION: Cancellation of meeting.

SUMMARY: On February 25, 2016, we published a Federal Register notice (81 FR 9483) announcing a new meeting of the Advisory Panel on Outreach and Education (APOE) (the Panel), which was scheduled for Wednesday, March 23, 2016. This notice announces the cancellation of the March 23, 2016 meeting.

FOR FURTHER INFORMATION CONTACT: Abigail Huffman, Designated Federal Official, Office of Communications, CMS, 7500 Security Boulevard, Mail Stop S1-05-06, Baltimore, MD 21244, 410-786-0897, email Abigail.Huffman1@cms.hhs.gov. Additional information about the APOE is available on the Internet at: http://www.cms.gov/Regulations-and-Guidance/Guidance/FACA/APOE.html. Press inquiries are handled through the CMS Press Office at (202) 690-6145.

Dated: March 15, 2016.
Andrew M. Slavitt,
Acting Administrator, Centers for Medicare & Medicaid Services.

[FR Doc. 2016-06206 Filed 3-17-16; 8:45 am]

BILLING CODE 4120-01-P